DEPARTMENT OF TRANSPORTATION

Federal Aviation Administration

14 CFR Part 39

[Docket No. FAA-2021-0725; Project Identifier MCAI-2020-01402-T; Amendment 39-21882; AD 2021-26-23]

RIN 2120-AA64

Airworthiness Directives; Bombardier, Inc., Airplanes; Correction

AGENCY: Federal Aviation Administration (FAA), DOT.

ACTION: Final rule; correction.

SUMMARY: The FAA is correcting an airworthiness directive (AD) that was published in the Federal Register. That AD applies to certain Bombardier, Inc., Model CL-600-2B16 (601-3A, 601-3R, and 604 Variants) airplanes. As published, the AD number specified in the regulatory text is incorrect. This document corrects that error and one other minor error. In all other respects, the original document remains the same.

DATES: This correction is effective February 25, 2022. The effective date of AD 2021-26-23 remains February 25, 2022.

The Director of the Federal Register approved the incorporation by reference of certain publications listed in this AD as of February 25, 2022 (87 FR 3184, January 21, 2022).

The Director of the Federal Register approved the incorporation by reference of certain other publications listed in this AD as of November 30, 2017 (82 FR 49498, October 26, 2017).

ADDRESSES: For service information identified in this final rule, contact Bombardier Business Aircraft Customer Response Center, 400 Côte-Vertu Road West, Dorval, Québec H4S 1Y9, Canada; telephone 514-855-2999; email ac.yul@aero.bombardier.com; internet http://www.bombardier.com. You may view this material at the FAA, Airworthiness Products Section, Operational Safety Branch, 2200 South 216th St., Des Moines, WA. For information on the availability of this material at the FAA, call 206-231-3195. It is also available in the AD docket at https://www.regulations.gov by searching for and locating Docket No. FAA-2021-0725.

Examining the AD Docket

You may examine the AD docket at https://www.regulations.gov by searching for and locating Docket No. FAA-2021-0725; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Steven Dzierzynski, Aerospace Engineer, Avionics and Electrical Systems Section, FAA, New York ACO Branch, 1600 Stewart Avenue, Suite 410, Westbury, NY 11590; telephone 516-228-7367; fax 516-794-5531; email 9-avs-nyaco-cos@faa.gov.

SUPPLEMENTARY INFORMATION:

Background

AD 2021-26-23, Amendment 39-21882 (87 FR 3184, January 21, 2022) (AD 2021-26-23), requires repetitive inspections for fuel leakage at the engine and auxiliary power unit (APU) fuel pumps, related investigative and corrective actions if necessary, an inspection of the APU for damage and deformation, repair if necessary, and modification of the engine electrical fuel pump (EFP) installation. The AD applies to certain Bombardier, Inc., Model CL-600-2B16 (601-3A, 601-3R, and 604 Variants) airplanes.

Need for the Correction

As published, the regulatory text of AD 2021-26-23 included the following errors:

• The AD number was incorrectly identified as “2021-21-23.” The correct AD number is 2021-26-23.

• The last sentence of paragraph (g) requires use of certain service information “as the effective date of this AD.” The correct compliance time for that requirement is “as of the effective date of this AD.”

Related Service Information Under 1 CFR Part 51

Bombardier has issued the following service information, which describes procedures for repetitive general visual inspections and rectifications for any fuel leak from the engine and APU EFP electrical wiring conduit outlets. These documents are distinct since they apply to different airplane serial numbers.

• Bombardier Service Bulletin 604-28-022, Revision 3, dated August 31, 2018.

• Bombardier Service Bulletin 605-28-010, Revision 3, dated August 31, 2018.

• Bombardier Service Bulletin 650-28-001, Revision 3, dated January 3, 2019.

Bombardier has also issued the following service information, which describes procedures for a detailed visual inspection of the APU for any damage or deformations (e.g., cut wires and a broken harness assembly of the fuel boost pump connector), modification of the engine EFP installation, and repair if necessary. These documents are distinct since they apply to different airplane serial numbers.

• Bombardier Service Bulletin 604-28-024, Revision 01, dated May 28, 2021.

• Bombardier Service Bulletin 605-28-012, dated June 16, 2020.

• Bombardier Service Bulletin 650-28-002, dated June 16, 2020.

This AD also requires Bombardier Service Bulletin 604-28-022, dated October 19, 2015, and Bombardier Service Bulletin 605-28-010, dated October 19, 2015, which the Director of the Federal Register approved for incorporation by reference as of November 30, 2017 (82 FR 49498, October 26, 2017).

This service information is reasonably available because the interested parties have access to it through their normal course of business or by the means identified in the ADDRESSES section.

Correction of Publication

This document corrects two errors in the regulatory text and correctly adds the AD as an amendment to 14 CFR 39.13. Although no other part of the preamble or regulatory information has been corrected, the FAA is publishing the entire rule in the Federal Register.

The effective date of this AD remains February 25, 2022.

Since this action only corrects the AD number and a minor grammatical error in the regulatory text, it has no adverse economic impact and imposes no additional burden on any person. Therefore, the FAA has determined that notice and public procedures are unnecessary.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by:

a. Removing Airworthiness Directive (AD) 2017-22-06, Amendment 39-19086 (82 FR 49498, October 26, 2017); and

b. Adding the following new AD:

2021-26-23 Bombardier, Inc.: Amendment 39-21882; Docket No. FAA-2021-0725; Project Identifier MCAI-2020-01402-T.

(a) Effective Date

This airworthiness directive (AD) is effective February 25, 2022.

(b) Affected ADs

This AD replaces AD 2017-22-06, Amendment 39-19086 (82 FR 49498, October 26, 2017) (AD 2017-22-06).

(c) Applicability

This AD applies to Bombardier, Inc., Model CL-600-2B16 (601-3A, 601-3R, and 604 Variants) airplanes, certificated in any category, serial numbers 5301 through 5665 inclusive, 5701 through 5990 inclusive, and 6050 through 6163 inclusive.

(d) Subject

Air Transport Association (ATA) of America Code 28, Fuel.

(e) Reason

This AD was prompted by reports of fuel leaks from the electrical connectors and conduits of the engine and auxiliary power unit (APU) electrical fuel pump (EFP) cartridge/canister, and the development of additional actions to address the root cause of the fuel leaks. The FAA is issuing this AD to address the potential for a fire hazard as a result of fuel leak from the APU EFP electrical conduit in the hot landing light compartment.

(f) Compliance

Comply with this AD within the compliance times specified, unless already done.

(g) Retained Actions for Certain Airplanes, With Revised Service Information and Method of Compliance Provisions

This paragraph restates the requirements of paragraph (g) of AD 2017-22-06, with revised service information and method of compliance provisions. For Model CL-600-2B16 airplanes having serial numbers 5301 through 5665 inclusive: Within 600 flight hours or 12 months, whichever occurs first after November 30, 2017 (the effective date of AD 2017-22-06), do the inspections specified in paragraphs (g)(1) through (3) of this AD, and do all applicable corrective actions, in accordance with the Accomplishment Instructions of Bombardier Service Bulletin 604-28-022, dated October 19, 2015, or Bombardier Service Bulletin 604-28-022, Revision 3, dated August 31, 2018. Do all applicable corrective actions before further flight. Repeat the inspections at intervals not to exceed 600 flight hours or 12 months, whichever occurs first. As of the effective date of this AD, use Bombardier Service Bulletin 604-28-022, Revision 3, dated August 31, 2018, only.

(1) Do a general visual inspection for traces of fuel coming from the right-hand engine boost pump at the location of the belly fairing screw (FS412, BL 0.0).

(2) Do a general visual inspection for traces of fuel coming from the left-hand engine boost pump at the location of the belly fairing screw (FS412, BL 0.0).

(3) Do a general visual inspection for traces of fuel coming from the EFP electrical wiring conduit outlet at the lower body fairing area for engine EFPs and at the right-hand landing light compartment for the APU EFP.

(h) Retained Actions for Certain Other Airplanes, With Revised Service Information and Compliance Method Provisions

This paragraph restates the requirements of paragraph (h) of AD 2017-22-06, with revised service information and compliance method provisions. For Model CL-600-2B16 airplanes having serial numbers 5701 through 5955 inclusive, 5957, 5960 through 5966 inclusive, 5968 through 5971 inclusive, and 5981: Within 600 flight hours or 12 months, whichever occurs first after November 30, 2017 (the effective date of AD 2017-22-06), do the inspections specified in paragraphs (h)(1) through (3) of this AD, and do all applicable related investigative and corrective actions, in accordance with the Accomplishment Instructions in Bombardier Service Bulletin 605-28-010, dated October 19, 2015, or Bombardier Service Bulletin 605-28-010, Revision 3, dated August 31, 2018. Do all applicable related investigative and corrective actions before further flight. Repeat the inspections at intervals not to exceed 600 flight hours or 12 months, whichever occurs first. As of the effective date of this AD, use Bombardier Service Bulletin 605-28-010, Revision 3, dated August 31, 2018, only.

(1) Do a general visual inspection for traces of fuel coming from the right-hand engine boost pump at the location of the belly fairing screw (FS412, BL 0.0).

(2) Do a general visual inspection for traces of fuel coming from the left-hand engine boost pump at the location of the belly fairing screw (FS412, BL 0.0).

(3) Do a general visual inspection of the right-hand landing light compartment for traces of fuel coming from the APU EFP.

(i) New Requirements of This AD: Inspections and Rectifications

For the airplanes identified in figure 1 to paragraph (i) of this AD: At the applicable compliance time specified in figure 1 to paragraph (i) of this AD, do a general visual inspection for any fuel leak from the engine and APU EFP electrical wiring conduit outlets, in accordance with the Accomplishment Instructions of the applicable service information specified in figure 1 to paragraph (i) of this AD. If any fuel leak is found during the general visual inspection, before further flight, correct the fuel leak in accordance with the Accomplishment Instructions of the applicable service information specified in figure 1 to paragraph (i) of this AD. Thereafter, repeat the general visual inspection at intervals not to exceed 600 flight hours or 12 months, whichever occurs first.

(j) New Requirements of This AD: Inspection and Modification

Within 60 months after the effective date of this AD: Do a detailed visual inspection of the APU for any damage or deformations, and modify the engine EFP installation, in accordance with the Accomplishment Instructions of the applicable service information specified in figure 2 to paragraph (j) of this AD. If any damage or deformations are found during the detailed visual inspection, before further flight, do the repair in accordance with the Accomplishment Instructions of the applicable service information specified in figure 2 to paragraph (j) of this AD.

(k) No Reporting Requirement

Where service information identified in this AD specifies to submit certain information to the manufacturer, this AD does not include that requirement.

(l) Terminating Actions

Accomplishing the actions required by paragraph (j) of this AD terminates all requirements of this AD.

(m) Credit for Previous Actions

(1) This paragraph provides credit for actions required by paragraph (g) of this AD, if those actions were performed before the effective date of this AD using Bombardier Service Bulletin 604-28-022, dated October 19, 2015, provided that within 4 months or 150 flight hours from the effective date of this AD or within 1 year from the last inspection, whichever occurs first, the actions specified in paragraph (g) are done using Bombardier Service Bulletin 604-28-022, Revision 3, dated August 31, 2018. Bombardier Service Bulletin 604-28-022, dated October 19, 2015, was incorporated by reference in AD 2017-22-06.

(2) This paragraph provides credit for actions required by paragraph (h) of this AD, if those actions were performed before the effective date of this AD using Bombardier Service Bulletin 605-28-010, dated October 19, 2015, provided that within 4 months or 150 flight hours from the effective date of this AD or within 1 year from the last inspection, whichever occurs first, the actions specified in paragraph (h) of this AD are done using Bombardier Service Bulletin 605-28-010, Revision 3, dated August 31, 2018. Bombardier Service Bulletin 605-28-010, dated October 19, 2015, was incorporated by reference in AD 2017-22-06.

(3) This paragraph provides credit for actions required by paragraph (i) of this AD, if those actions were performed before the effective date of this AD using the service information in paragraphs (m)(3)(i) through (iii) of this AD, provided that within 1 year from the last inspection, the actions accomplished in paragraph (i) of this AD are done using Bombardier Service Bulletin 650-28-001, Revision 3, dated January 3, 2019. This service information is not incorporated by reference in this AD.

(i) Bombardier Service Bulletin 650-28-001, dated November 3, 2017.

(ii) Bombardier Service Bulletin 650-28-001, Revision 1, dated May 14, 2018.

(iii) Bombardier Service Bulletin 650-28-001, Revision 2, dated August 31, 2018.

(4) This paragraph provides credit for actions required by paragraph (j) of this AD, if those actions were performed before the effective date of this AD using Bombardier Service Bulletin 604-28-024, dated June 16, 2020. This service information is not incorporated by reference in this AD.

(n) Other FAA AD Provisions

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada Civil Aviation (TCCA); or Bombardier, Inc.'s TCCA Design Approval Organization (DAO). If approved by the DAO, the approval must include the DAO-authorized signature.

(o) Related Information

(1) Refer to Mandatory Continuing Airworthiness Information (MCAI) TCCA AD CF-2016-32R4, dated October 13, 2020; and TCCA AD CF-2020-38, dated October 13, 2020; for related information. This MCAI may be found in the AD docket on the internet at https://www.regulations.gov by searching for and locating Docket No. FAA-2021-0725.

(2) For more information about this AD, contact Steven Dzierzynski, Aerospace Engineer, Avionics and Electrical Systems Section, FAA, New York ACO Branch, 1600 Stewart Avenue, Suite 410, Westbury, NY 11590; telephone 516-228-7367; fax 516-794-5531; email 9-avs-nyaco-cos@faa.gov.

(3) Service information identified in this AD that is not incorporated by reference is available at the addresses specified in paragraphs (p)(5) and (6) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on February 25, 2022 (87 FR 3184, January 21, 2022).

(i) Bombardier Service Bulletin 604-28-022, Revision 3, dated August 31, 2018.

(ii) Bombardier Service Bulletin 604-28-024, Revision 01, dated May 28, 2021.

(iii) Bombardier Service Bulletin 605-28-010, Revision 3, dated August 31, 2018.

(iv) Bombardier Service Bulletin 605-28-012, dated June 16, 2020.

(v) Bombardier Service Bulletin 650-28-001, Revision 3, dated January 3, 2019.

(vi) Bombardier Service Bulletin 650-28-002, dated June 16, 2020.

(4) The following service information was approved for IBR on November 30, 2017 (82 FR 49498, October 26, 2017).

(i) Bombardier Service Bulletin 604-28-022, dated October 19, 2015.

(ii) Bombardier Service Bulletin 605-28-010, dated October 19, 2015.

(5) For service information identified in this AD, contact Bombardier Business Aircraft Customer Response Center, 400 Côte-Vertu Road West, Dorval, Québec H4S 1Y9, Canada; telephone 1-514-855-2999; email ac.yul@aero.bombardier.com; internet https://www.bombardier.com.

(6) You may view this service information at the FAA, Airworthiness Products Section, Operational Safety Branch, 2200 South 216th St., Des Moines, WA. For information on the availability of this material at the FAA, call 206-231-3195.

(7) You may view this service information that is incorporated by reference at the National Archives and Records Administration (NARA). For information on the availability of this material at NARA, email fr.inspection@nara.gov, or go to: https://www.archives.gov/federal-register/cfr/ibr-locations.html.

Issued on February 7, 2022.
Lance T. Gant,
Director, Compliance & Airworthiness Division, Aircraft Certification Service.

[FR Doc. 2022-02881 Filed 2-10-22; 8:45 am]

BILLING CODE 4910-13-P